DEPARTMENT OF COMMERCE

Foreign-Trade Zones Board

[S-21-2019]

Approval of Subzone Expansion; Swagelok Company Ravenna, Ohio

On February 19, 2019, the Executive Secretary of the Foreign-Trade Zones (FTZ) Board docketed an application submitted by the Cleveland Cuyahoga County Port Authority, grantee of FTZ 40, requesting an expansion of Subzone 40I subject to the existing activation limit of FTZ 40, on behalf of Swagelok Company, in Ravenna, Ohio.

The application was processed in accordance with the FTZ Act and Regulations, including notice in the Federal Register inviting public comment (84 FR 6129, February 16, 2019). The FTZ staff examiner reviewed the application and determined that it meets the criteria for approval. Pursuant to the authority delegated to the FTZ Board Executive Secretary (15 CFR Sec. 400.36(f)), the application to expand Subzone 40I was approved on April 15, 2019, subject to the FTZ Act and the Board's regulations, including Section 400.13, and further subject to FTZ 40's 2,000-acre activation limit.

Dated: April 15, 2019.
Andrew McGilvray,
Executive Secretary.

[FR Doc. 2019-07799 Filed 4-17-19; 8:45 am]

BILLING CODE 3510-DS-P